DEPARTMENT OF HEALTH AND HUMAN SERVICES

Health Resources and Services Administration

Recharter for Advisory Council on Blood Stem Cell Transplantation

AGENCY: Health Resources and Services Administration (HRSA), Department of Health and Human Services.

ACTION: Notice.

SUMMARY: In accordance with the Federal Advisory Committee Act (FACA), the Department of Health and Human Services is hereby giving notice that the Advisory Council on Blood Stem Cell Transplantation (ACBSCT) has been rechartered. The effective date of the recharter is February 19, 2023.

FOR FURTHER INFORMATION CONTACT: Shelley Tims Grant (Designated Federal Officer); HRSA Division of Transplantation, HRSA, 5600 Fishers Lane, 08W67, Rockville, Maryland 20857; 301-443-8036; or sgrant@hrsa.gov.

SUPPLEMENTARY INFORMATION: The ACBSCT advises, assists, consults with, and makes recommendations to the Secretary of Health and Human Services, acting through the HRSA Administrator, on matters related to the activities of the C.W. Bill Young Cell Transplantation Program and National Cord Blood Inventory and other matters of significance concerning the activities under section 379 of the Public Health Service Act (42 U.S.C. 274k).

The ACBSCT shall provide a consolidated, comprehensive source of expert, unbiased analysis, and recommendations to the Secretary of Health and Human Services on the latest advances in the science of blood stem cell transplantation and donation. The ACBSCT may also review the state of the science using adult stem cells and birthing tissues to develop new types of therapies for patients, for the purpose of considering the potential inclusion of such new types of therapies in the C.W. Bill Young Cell Transplantation Program.

The recharter for ACBSCT was approved on February 15, 2023. Recharter of the ACBSCT charter gives authorization for the ACBSCT to operate until February 19, 2025.

A copy of the ACBSCT charter is available on the ACBSCT website at https://bloodstemcell.hrsa.gov/about/advisory-council. A copy of the charter can also be obtained by accessing the FACA database that is maintained by the Committee Management Secretariat under the General Services Administration. The website address for the FACA database is http://www.facadatabase.gov/.

Maria G. Button,
Director, Executive Secretariat.

[FR Doc. 2023-03604 Filed 2-21-23; 8:45 am]

BILLING CODE 4165-15-P